DEPARTMENT OF HEALTH AND HUMAN SERVICES

Centers for Disease Control and Prevention

[30Day-24-23HC]

Agency Forms Undergoing Paperwork Reduction Act Review

In accordance with the Paperwork Reduction Act of 1995, the Centers for Disease Control and Prevention (CDC) has submitted the information collection request titled “Food safety knowledge, attitude, and practices survey of correctional workers” to the Office of Management and Budget (OMB) for review and approval. CDC previously published a “Proposed Data Collection Submitted for Public Comment and Recommendations” notice on August 7, 2023 to obtain comments from the public and affected agencies. CDC received one comment related to the previous notice This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Food safety knowledge, attitude, and practices survey of correctional workers—New—National Center for Emerging and Zoonotic Infectious Diseases (NCEZID), Centers for Disease Control and Prevention (CDC).

Background and Brief Description

In 2017, an analysis of Foodborne Disease Outbreak Surveillance System (FDOSS) epidemiology data demonstrated a disproportionately high burden of foodborne outbreaks and outbreak-associated illnesses in correctional settings compared to other settings (Marlow et al., Am J Public Health 2017). The CDC is developing training programs to reduce foodborne illness in correctional facilities. However, CDC has little understanding of current training and overall food safety culture among individuals working in correctional settings. This survey will allow for the collection of baseline knowledge, attitudes, and practices (KAP) of correctional staff working in a variety of U.S. correctional facilities (including federal, state, tribal, local and private facilities). The survey will assess overall food infrastructure, food safety training, and the receptiveness of correctional staff to being a part of food safety at their facilities. The plan will be to repeat the survey two years later to support interim evaluation of CDC programs.

CDC requests OMB approval for an estimated 2,500 annual burden hours to conduct a KAP survey of correctional workers. There is no cost to respondents other than their time to participate.

Estimated Annualized Burden Hours
Type of respondents | Form name | Number of respondents | Number of responses per respondent | Average burden per response (in hours)
Correctional workers | KAP survey of correctional workers | 5,000 | 1 | 0.5

Jeffrey M. Zirger,
Lead, Information Collection Review Office, Office of Public Health Ethics and Regulations, Office of Science, Centers for Disease Control and Prevention.

[FR Doc. 2023-26084 Filed 11-24-23; 8:45 am]

BILLING CODE 4163-18-P